DEPARTMENT OF TRANSPORTATION

National Highway Traffic Safety Administration

[Docket No. NHTSA 2001-9116; Notice 1]

Hankook Tire Corporation, Receipt of Application for Decision of Inconsequential Noncompliance

Hankook Tire Manufacturing Company, Ltd., a Korean corporation, has determined that approximately 7,600 P205/75R14 Dayton Thorobred tires produced in the Hankook Daejun Plant during August 2000 through January 2001 do not meet the labeling requirements mandated by Federal Motor Vehicle Safety Standard (FMVSS) No. 109, “New Pneumatic Tires.”

Pursuant to 49 U.S.C. 30118(d) and 30120(h), Hankook has petitioned for a determination that the noncompliance is inconsequential to motor vehicle safety. It has filed an appropriate report pursuant to 49 CFR Part 573, “Defect and Noncompliance Reports.”

This notice of receipt of an application is published under 49 U.S.C. 30118 and 30120 and does not represent any agency decision or other exercise of judgment concerning the merits of the application.

The noncompliance with S4.3.(a) relates to a mismarking of the tire size on one mold, Serial Number 24383. The actual stamping in the bead area of the DOT serial side only is P205/75R15 and the correct stamping should be P205/75R14.

Hankook states that the affected P205/75R14 Dayton Thorobred tires meet all other requirements of FMVSS No. 109. The larger predominant P205/75R14 markings on the mid-sidewall and markings on the tire labels are correct. Furthermore, the P205/75R14 tire could not be mounted on a 15″ wheel since the mounting machine could not apply sufficient force to mount the tire. Hankook submits that “possible adverse effect upon motor vehicle safety, which could be attributed to the noncompliance, should be deemed inconsequential.”

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: May 3, 2001.

Authority: 49 U.S.C. 301118, 301120; delegations of authority at 49 CFR 1.50 and 501.8.

Issued on: March 29, 2001.
Stephen R. Kratzke,
Associate Administrator for Safety Performance Standards.

[FR Doc. 01-8177 Filed 4-2-01; 8:45 am]

BILLING CODE 4910-59-P